DEPARTMENT OF THE INTERIOR

Bureau of Land Management

[ID-933-1430-FR; IDI-27169]

Termination of Recreation and Public Purposes Act Classification, Idaho

AGENCY: Bureau of Land Management, Interior.

ACTION: Notice.

SUMMARY: This notice terminates a Recreation and Public Purposes Act Classification on 17 acres of public lands, more or less, as this classification is no longer needed under the provisions of the Recreation and Public Purposes Act, as amended (43 U.S.C. 869 et seq.).

EFFECTIVE DATE: May 3, 2007.

FOR FURTHER INFORMATION CONTACT: Catherine D. Foster, BLM Idaho State Office, 1387 S. Vinnell Way, Boise, Idaho 83709, (208) 373-3863.

SUPPLEMENTARY INFORMATION: On June 9, 1992, 17 acres of public lands were classified as suitable for Recreation and Public Purposes. The classification is hereby terminated and the segregation for the following described land is hereby terminated:

T. 37 N., R. 1 E., B.M.

Section 34, Lots 17, 18, 19, 20, 21, 22, 26 and 27 (Formerly a portion of Lot 6).

The area described above aggregates 17 acres of public lands, more or less, in Clearwater County.

At 9 a.m. on May 3, 2007, the Recreation and Public Purposes Classification will be terminated. The lands will remain closed to location and entry under the public land laws and the mining laws, as they are currently withdrawn by the Federal Energy Regulatory Commission (FERC) for hydropower purposes: Power Project No. 10819.

Dated: February 27, 2007.
Jimmie Buxton,
Chief, Branch of Lands, Minerals and Water Rights Resource Services Division.

[FR Doc. E7-8485 Filed 5-2-07; 8:45 am]

BILLING CODE 4310-GG-P